ENVIRONMENTAL PROTECTION AGENCY

[OPP-2004-0115; FRL-7678-1]

Termination of Pesticide Producing Establishments

AGENCY: Environmental Protection Agency (EPA).

ACTION: Notice.

SUMMARY: This document announces the Agency's intention to terminate a number of pesticide producing establishment registrations for failure to file annual pesticide producing reports as required by section 7 of the Federal Insecticide, Fungicide, and Rodenticide Act (FIFRA), and supporting regulations found at 40 CFR part 167; and which the Agency could not contact through the U.S. mailing address on file pursuant to FIFRA section 7.

DATES: The pesticide producing establishments listed in this document will have their establishment registration terminated December 6, 2004.

FOR FURTHER INFORMATION CONTACT: Pesticide producing establishments should contact the EPA Regional Office having jurisdiction for the state where their parent company is located. A listing of the EPA Regional Offices is included under Unit III. of the SUPPLEMENTARY INFORMATION.

SUPPLEMENTARY INFORMATION:

I. Does this Action Apply to Me?

This action is directed to pesticide producing establishments, but may be of interest to environmental, human health, and agricultural advocates; the agrochemical industry; pesticide users; and members of the public interested in pesticide use. This list is not intended to be exhaustive, but rather provides a guide for readers regarding entities likely to be affected by this action. Other types of entities not listed in this unit could also be affected. If you have any questions regarding the applicability of this action to you or a particular entity, consult the appropriate regional contact.

II. Background

Section 7 of FIFRA requires that all establishments that produce any pesticide or active ingredient used in producing a pesticide, or device subject to this Act be registered with the Agency, and that all such establishments submit annual production reports to the Agency. The EPA regulations at 40 CFR part 167 establish requirements concerning these annual reports and the information that must be in annual reports (40 CFR 167.85). The regulations state that establishment registrations will be subject to termination if an annual report is not submitted (40 CFR 167.20(f)).

Notwithstanding the requirements identified above, no annual production reports were received from the establishments identified in this document in 2000, 2001, 2002, and/or 2003. The mailings sent to the last reported address of the companies identified in this document were returned unopened to the Agency, with indications of “undeliverable” or “address unknown” as the reason for the return. Subsequent attempts to locate the identified companies and establishments were unsuccessful. Additionally, some of the companies and/or establishments are out of business. Therefore, the Agency is terminating, without further notice, the registrations of the identified establishments pursuant to 40 CFR 167.20(f) for failure to submit the annual reports in 2003.

Following termination of each pesticide producing establishment's registration, sale or distribution in the United States of any pesticide product produced in an establishment subsequent to the termination of that establishment's registration will be considered unlawful and a violation of section 12 of FIFRA, subject to possible civil and/or criminal penalties. This document will not preclude the Agency from seeking other appropriate remedies necessary for compliance with FIFRA.

III. List of EPA Regional Offices and Regional Contacts

The following is a listing of the EPA Regional Offices and Regional Contacts:

U.S. EPA, Region 3 (Delaware, District of Columbia, Maryland, Pennsylvania, Virginia, West Virginia), Pesticides Programs (3WC32), 1650 Arch St., Philadelphia, PA 19103-2029, ATTN: Kyla Townsend-McIntyre, Telephone: 215-814-2045.

U.S. EPA, Region 4 (Alabama, Florida, Georgia, Kentucky, Mississippi, North Carolina, South Carolina, Tennessee), AFC Pesticides Section (APTMD), 61 Forsyth St., SW., Atlanta, GA 30303-8960, ATTN: Jacquelyn Wilkerson, Telephone: 404-562-9011.

U.S. EPA, Region 7 (WWPD/PEST), (Iowa, Kansas, Missouri, Nebraska), 901 N. 5th St., Kansas City, KS 66101, ATTN: Lou Banks, Telephone: 913-551-7125.

U.S. EPA, Region 9 (Arizona, California, Hawaii, Nevada, American Samoa, Guam) Pesticides Office (CMD-5), 75 Hawthorne St., San Francisco, CA 94105, ATTN: Glenda Dugan, Telephone: 415-947-4204.

U.S. EPA, Region 10 (Alaska, Idaho, Oregon, Washington), Pesticides Unit (ECO-084), 1200 Sixth Ave., Seattle, WA 98101, ATTN: Teresa Pimental, Telephone: 206-553-2057.

IV. Pesticide-Producing Establishments to be Terminated

The following table lists those companies with specific pesticide-producing establishments to be terminated.

Domestic Company Name and Mailing Address | Domestic Pesticide Producing Establishment Number, Name and Site Address
EPA REGION 3
Gran-Tenesco Resources, Inc., 2314 North American St., Philadelphia, PA 19133 | 046271-PA-001*
Marlo Industries, Inc., P.O. Box 878, Jessup, MD 20794 | 066034-MD-001; Marlo Industries, Inc., 7785 Waterloo Rd., Unit 106, Jessup, MD 20794.
Metachem Products, LLC, 745 Governor Lea Rd., New Castle, DE 19720 | 001759-DE-001*
Pennsylvania Engineering Co., 1107- 21 N. Howard St., Philadelphia, PA 19123 | 000087-PA-001; Pennsylvania Engineering Co., 1119-21 N. Howard St., Philadelphia, PA 19123
Wye Oak Laboratories, Inc., P.O. Box 485, DuBois, PA 15801 | 065460-PA-001; Wye Oak Laboratories, Inc., 36 W. Long Ave., DuBois, PA 15801
EPA REGION 4
Action Chemical & Equipment, Inc., 6454 Beach Blvd., Jacksonville, FL 32216 | 036028-FL-001*
American Repellents, Inc., P.O. Box 1024, Oxford, MS 38655 | 062446-MS-001; American Repellents, Inc., Hwy. 7 North, Oxford, MS 38655
Aquarius Patio, Pool, Spa Center, Inc. 421 Racetrack Road NW., Fort Walton Beach, FL 32547 | 067715-FL-001*
Ati Detergent LLC, 12315 Plant B 62nd St. North, Largo, FL 33773 | 074173-FL-001*
Bioshield Technologies, Inc., 4405 International Blvd., Suite B109, Norcross, GA 30093 | 071825-GA-001*
Cricket Pool Service, Inc., 3899 Ulmerton Rd., Suite F, Clearwater, FL 33762 | 074557-FL-001*
Danachem, Inc., 7 Twin Creeks Drive, Tallahassee, AL 36078 | 064470-AL-001*
Debbie's Pool Supplies & Services, 5900 SE Abshier Blvd., Belleview, FL 34420 | 068856-FL-001*
Diall Chemical Corporation, 6649 Amory Court #3, Winter Park, FL 32792 | 034822-FL-001*
Dyn-o-mite International, Inc., 728 Industry Rd., Longwood, FL 32750 | 058300-FL-001*
Earth Solutions, 205 Commercial Dr., St. Augustine, FL 32092 | 072718-FL-001*
FCP One Stop Pool Shop, 1309 Circle 54, Laughman, FL 33837 | 074260-FL-001*
Horizon Pharmaceuticals, Inc., 11800 28th St. N, St. Petersburg, FL 33716 | 072666-FL-001*
John Girvan Company, 205 Commercial Dr., At. Augustine, FL 32092 | 051708-FL-001*
Major Brand, Inc., 3367 W. Hospital Ave., M, Chamblee, GA 30341 | 072798-GA-001*
Megagro Corporation, 3770 NW 52nd St., Miami, FL 33142 | 072886-FL-001*
Natural Hot Tub, Co., 10295 Collins Ave. #917, Bay Harbour, FL 33154 | 073281-FL-001*
Osgood Design Pools& Spa, Inc., 4340 N Orange Blossom Trail, Orlando, FL 32804 | 067173-FL-001*
Pacific Chemical Group, Inc., 9292 NW 101st St., Miami, FL 33178 | 074048-FL-001*
Pagasus Pool & Spa, Inc., 5042 Seminole Pratt-Whattney, Laxahatchee, FL 33470 | 070318-FL-002*
Saroje International, 5370-D Truman Dr., Decatur, GA 30035 | 074791-GA-001*
Sugarhill Group, d/b/a Backyards USA, 943 NW 16th Place, Stuart, FL 34994 | 068765-FL-001*
Vicksburg Chemical Company, P.O. Box 821003, Vicksburg, MS 39182 | 067209-MS-001; Vicksburg Chemical Co., 4280 Rifle Range Rd., Vicksburg, MS 39180
W.B. Gerard & Sons, Inc., 425 Grimes Rd., Washington, NC 27889 | 059478-NC-001*
EPA REGION 7
Aero Master, Inc., 325 W. Pacific Ave., Webster Groves, MO 63119 | 003181-MO-001*
York Pharmaceuticals, Inc., 1201 Douglas Ave., Kansas City, KS 66103 | 009300-KS-001*
EPA REGION 9
Environatural International, 7625 Escuda, Glendale, AZ 86306 | 064721-AZ-001; Environatural International, 351 W Hatcher Rd., Phoenix, AZ 85021
Cal Crop USA, LLC., P.O. Box 426, Bonsall, CA 92003 | 068826-CA-001; Cal Crop USA, LLC., 2245 Micro Place, Escondido, CA 92029
Heat Pro, 357 Cliffwood Park Street, Suite A, Brea, CA 92821 | 073692-CA-001*
Home Oil Co of Anaheim, 1422 W. Broadway, Anaheim, CA 92802 | 046024-CA-001*
Kiss Int'l, a Subsidiary of Aqua Care Systems Inc., 965 Park Center Dr., Vista, CA 92083 | 071081-CA-001; Kiss Int'l/Ditech Systems, 965 Park Center Dr., Vista, CA 92083
Makiki Electronics, P.O. Box 729, Hauula, HI 96717 | 035054-HI-001, Makiki Electronics, 54 -122 Kamehameha Hwy., Hauula, HI 96717
Microplus Termite Service, 1406 Bush St., Santa Anna, CA 92701 | 74282-CA-001*
Safe-Guard Chemicals Co., 904 S. Nogales St., City of Industry, CA 91748 | 056138-CA-001*
Sierra Pool Chemical Corp., P.O. Box 292069, Sacramento, CA 95829 | 068288-CA-001, Sierra Pool Chemical Corp., 8526 Weyand Ave., Sacramento, CA 95829
Turlock Dairy Supply, Inc., 880 S. Kilroy Rd., Turlock, CA 95380 | 068424-CA-001*
EPA REGION 10
Chlorine Industries, 1010 Tayoner Dr., Anchorage, AK 99501 | 073796-AK-001*
Dyetech Equipment Co., 15010-E SE Morning Way, Clackamas, OR 97015 | 073774-OR-001*
Oaksdale Farm N'Home, P.O. Box 371, Oakesdale, WA 99158 | 070782-WA-001; Oaksdale Farm N'Home, N 202 1st St., Oakesdale, WA 99158
Springfield Scientific Inc., 2600 Main St., Springfield, OR 97477 | 069975-OR-001*
Union Whse & Supply Co., P.O. Box 64089, St. Paul, MN 55164 | 070004-ID-001; Union Whse & Supply Co., 1001 N 'A' St.; Grangeville, ID 83530
*The mailing address and the site address are the same

Authority: 7 U.S.C. 136

List of Subjects

Environmental protection, Pesticides, Reporting and recordkeeping requirements.

Dated: October 1, 2004.
Thomas Voltaggio,
Acting Regional Administrator, Region III.

[FR Doc. 04-23394 Filed 10-19-04; 8:45 am]

BILLING CODE 6560-50-S